DEPARTMENT OF DEFENSE

Department of the Air Force

[USAF-2008-0011]

Privacy Act of 1974; System of Records

AGENCY: Department of the Air Force, DOD.

ACTION: Notice to Add a System of Records.

SUMMARY: The Department of the Air Force is proposing to add a system of records to its inventory of record systems subject to the Privacy Act of 1974 (5 U.S.C. 552a), as amended.

DATES: The changes will be effective on July 14, 2008, unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 696-6518.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, will be submitted on June 4, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 5, 2008.
Patricia L. Toppings,
OSD Federal Register Liaison Officer, Department of Defense.

F024 AF USTRANSCOM B DoD

System name:

DOD Transportation Repository Records.

System location:

Defense Enterprise Computing Center, 5450 Carlisle Pike, Mechanicsburg PA 17055-0975.

Categories of individuals covered by the system:

Military personnel, dependents, medical patients/evacuees, and DOD civilians. Individuals traveling in the Defense Transportation System.

Categories of records in the system:

Individual's name, personal identifier (i.e. Social Security Number (SSN)), rank, unit identification code (UIC), Service affiliation and blood type. Blood type is used for compiling aggregate numbers of passengers with a specific blood type to facilitate adequate supplies of blood in the event of an emergency (e.g., a passenger plane crashes).

Authority for maintenance of the system:

10 U.S.C. 113, Secretary of Defense; 10 U.S.C. 3013, Secretary of the Army; 10 U.S.C. 5013, Secretary of the Navy; 10 U.S.C. 8013, Secretary of the Air Force; DoD Regulation 4500.9E, Transportation and Traffic Management; and E.O. 9397 (SSN).

Purposes:

To track DOD cargo and personnel moving within the Defense Transportation System (DTS) both in time of peace and war. DTS is DOD transportation infrastructure which supports Department of Defense common-user transportation needs across the range of military operations.

In addition to those disclosures generally permitted under 5 U.S.C. 552a(b) of the Privacy Act, these records or information contained therein may specifically be disclosed outside the DOD as a routine use pursuant to 5 U.S.C. 552a(b)(3) as follows:

Routine Uses of records maintained in the system, including categories of users and the purposes of such uses:

The Department of Defense ‘Blanket Routine Uses’ published at the beginning of the Air Force's compilation of systems of records notices apply to this system.

Policies and practices for storing, retrieving, accessing, retaining, and disposing of records in the system:

Storage:

Electronic storage media.

Retrievability:

Individual's name, SSN, and blood type.

Safeguards:

Access is restricted by password. Data located in restricted access-controlled facilities. Common Access Card (CAC) log-on/authentication will be implemented into IGC from the program standup. Log-in accounts will be validated on a regular basis to insure minimal risk of compromised accounts.

Retention and disposal:

Retention of records in an active status is for five years. After five years, data is archived to magnetic tape and then stored an additional year; the tapes are then destroyed by burning.

System Manager and address:

Data Owner and Policy Official: United States Transportation Command (USTRANSCOM), ATTN: TCJ5/4-PT, 508 Scott Drive, Scott AFB, IL 62225-5357.

Data Processor:

Defense Logistics Agency (Integrated Data Environment/Global Transportation Network Convergence (IGC)) Program Manager, J-626, 8725 John J. Kingman Road, Fort Belvoir, VA 22060.

Notification procedure:

Individuals seeking access to information about themselves contained in this system should address written inquiries to Air Force Privacy Act Officer, Office of Warfighting Integration and Chief Information Officer, SAF/XCISI, 1800 Air Force Pentagon, Suite 220, Washington, DC 20330-1800.

Individuals should provide full name and Social Security Number (SSN).

Record access procedure:

An individual seeking to determine whether information about themselves is contained in this system should address written inquiries Air Force Privacy Act Officer, Office of Warfighting Integration and Chief Information Officer, SAF/XCISI, 1800 Air Force Pentagon, Suite 220, Washington, DC 20330-1800.

Individuals should provide full name and Social Security Number (SSN).

Contesting record procedures:

The Air Force rules for accessing records, and for contesting contents or appealing initial agency determinations are published in Air Force Instruction 33-332; 32 CFR part 806b; or may be obtained from the system manager.

Record source categories:

Automated feeder systems of service members' affiliation.

Exemptions claimed for the system:

None.

[FR Doc. E8-13227 Filed 6-11-08; 8:45 am]

BILLING CODE 5001-06-P